DEPARTMENT OF LABOR

Employment and Training Administration

[TA-W-81,299]

Kohler Company, Malvern Division, Including On-Site Leased Workers From Manpower Staffing and Dow Cleaning Services, Malvern, AR; Amended Certification Regarding Eligibility To Apply for Worker Adjustment Assistance

In accordance with Section 223 of the Trade Act of 1974, as amended (“Act”), 19 U.S.C. 2273, the Department of Labor issued a Certification of Eligibility to Apply for Worker Adjustment Assistance on March 9, 2012, applicable to workers of Kohler Company, Malvern Division, Malvern, Arkansas, including on-site leased workers from Manpower Staffing. The Department's notice of determination was published in the Federal Register on March 26, 2012 (77 FR 17527).

At the request of a company official, the Department reviewed the certification for workers of the subject firm. The workers were engaged in the production of faucets, drains, and components.

The company reports that workers from Dow Cleaning Services were employed on-site at the Malvern, Arkansas location of Kohler Company, Malvern Division. The Department has determined that these workers were sufficiently under the control of the subject firm to be considered leased workers.

Based on these findings, the Department is amending this certification to include workers leased from Dow Cleaning Services working on-site at the Malvern, Arkansas location of Kohler Company, Malvern Division.

The amended notice applicable to TA-W-81,299 is hereby issued as follows:

All workers of Kohler Company, Malvern Division, including on-site leased workers from Manpower Staffing and Dow Cleaning Services, Malvern, Arkansas, who became totally or partially separated from employment on or after February 6, 2011 through March 9, 2014, and all workers in the group threatened with total or partial separation from employment on the date of certification through two years from the date of certification, are eligible to apply for adjustment assistance under Chapter 2 of Title II of the Trade Act of 1974, as amended.

Signed in Washington, DC, this 30th day of April 2012.
Del Min Amy Chen,
Certifying Officer, Office of Trade Adjustment Assistance.

[FR Doc. 2012-11898 Filed 5-16-12; 8:45 am]

BILLING CODE 4510-FN-P